DEPARTMENT OF AGRICULTURE

Food and Nutrition Service

RIN 0584-AC89

National School Lunch Program: Pilot Projects, Alternatives to Free and Reduced Price Application Requirements and Verification Procedures—Extension of Date for Submission of Applications

AGENCY: Food and Nutrition Service, USDA.

ACTION: Notice; extension of application date.

SUMMARY: On January 21, 2000, the Department issued a notice (65 FR 3409) announcing pilot projects which would permit selected school food authorities and State agencies to test alternatives to the application procedures and verification process for households participating in the National School Lunch Program. The January 21 notice advised interested parties that applications to conduct a pilot project must be postmarked no later than March 21, 2000. Subsequently, interested parties have advised the Department that the 60 days provided for submission of applications is not sufficient. This notice provides an additional 45 days by extending the date for submission of applications to the Food and Nutrition Service of the Department to May 5, 2000.

DATES: Applications to conduct a pilot project must be postmarked no later than May 5, 2000.

FOR FURTHER INFORMATION CONTACT: Mr. Matthew Sinn by telephone at (703) 305-2107 to request an application packet or in writing to Mr. Matthew Sinn, Office of Analysis, Nutrition and Evaluation, Room 503, 3101 Park Center Drive, Alexandria, Virginia 22302; or electronically at matthew.sinn@fns.usda.gov. The application packet is also available at the Food and Nutrition Service Web site, located at http://www.fns.usda.gov/oane/. The January 21, 2000 notice (65 FR 3409) announcing the pilot projects is available at the Food and Nutrition Service Web site, located at http://www.fns.usda.gov/cnd/lunch/governance/verification.html.

SUPPLEMENTARY INFORMATION:

Background

The Department published a notice in the Federal Register (FR 65 FR 3409) on January 21, 2000, announcing pilot projects which would permit selected school food authorities and State agencies to test alternatives to the free and reduced price application procedures and verification process for households participating in the National School Lunch Program. The Department provided interested parties 60 days in which to submit an application to participate. Subsequent to issuance of the notice, interested parties indicated that the 60-day submission period, ending March 21, 2000, does not provide sufficient time to develop an application.

The Department is eager to ensure that interested parties have sufficient time to develop and submit an application. To achieve this end, the Department will continue to receive applications postmarked no later than May 5, 2000.

Dated: March 15, 2000.
Samuel Chambers, Jr.,
Administrator.

[FR Doc. 00-7022 Filed 3-20-00; 8:45 am]

BILLING CODE 3410-30-U